DEPARTMENT OF TRANSPORTATION

Federal Highway Administration (FHWA)

Notice of Intent to Prepare an Environmental Impact Statement: Milwaukee and Ozaukee Counties

AGENCY: Federal Highway Administration (FHWA), DOT.

ACTION: Notice of Intent.

SUMMARY: The FHWA is issuing this notice to advise the public that an Environmental Impact Statement (EIS) will be prepared for a proposed freeway corridor improvement project on I-43 in Milwaukee and Ozaukee Counties, Wisconsin.

FOR FURTHER INFORMATION CONTACT: Bethaney Bacher-Gresock, Environmental Program Manager, FHWA Wisconsin Division Office, City Center West, 525 Junction Road, Suite 8000, Madison, WI 53717; Telephone: (608) 662-2119.

SUPPLEMENTARY INFORMATION: The FHWA, in cooperation with the Wisconsin Department of Transportation (WisDOT), will prepare an Environmental Impact Statement (EIS) for proposed improvements in the I-43 corridor and adjacent interchanges in Milwaukee and Ozaukee Counties, WI. The purpose of the project is to address emerging pavement and structural needs, safety issues and design deficiencies while identifying methods to accommodate existing and projected future traffic volumes; this may result in the full reconstruction and redesign of the I-43 corridor as well a potential new interchange at Highland Road. The EIS will evaluate the I-43 freeway corridor from I-43 at Hwy. 60 on the north and I-43 at Silver Spring Drive on the south, approximately 14 miles in length. The EIS will also evaluate the service interchanges and adjacent arterial roads in Milwaukee and Ozaukee Counties, including the following service interchanges Hwy. 60, CTH C, Hwy. 167/Mequon Road, partial interchange northbound to Port Washington Road and southbound from County Line Road, Hwy. 100/Brown Deer Road, Good Hope Road, and Silver Spring Drive interchanges. The EIS will be developed in accordance with 23 U.S.C. 139, 23 CFR 771, and 40 CFR 1500-1508.

Public involvement is a critical component of the National Environmental Policy Act (NEPA) project development process and will occur throughout the development of the environmental documents. These documents will be made available for review by federal and state resource agencies and the public. Specific efforts to encourage involvement by, and solicit comments from, minority and low-income populations in the project study area will be made. A series of public information meetings will be held during the project study. Public notice will be given as to the time and place of all workshops and public information meetings. In addition, a public hearing will be held after the completion of the Draft EIS. Inquiries related to the I-43 Corridor project study can be sent to DOTI43NorthSouth@dot.wi.gov, and a public Web site will be maintained throughout the study for public comment and information at http://www.sefreeways.org. To ensure that the full range of issues related to this proposed action are addressed and all significant issues identified, comments and suggestions are invited from all interested parties. Comments and questions concerning the proposed action and the EIS should be directed to the FHWA address provided above.

Projects receiving Federal funds must comply with Title VI of the Civil Rights Act and Executive Order 12898 Federal Actions to Address Environmental Justice in Minority and Low-Income Populations. Federal law prohibits discrimination on the basis of race, color, age, sex, or country of national origin in the implementation of this project. It is also Federal policy to identify and address any disproportionately high and adverse effects of federal projects on the health or environment of minority and low-income populations to the greatest extent practicable and permitted by law.

(Catalog of Federal Domestic Assistance Program Number 20.205, Highway Planning and Construction. The regulations implementing Executive Order 12372 regarding intergovernmental consultation on Federal programs and activities apply to this program.)

Issued on: March 29, 2012.
Bethaney Bacher-Gresock,
Environmental Program Manager, Federal Highway Administration, Madison Wisconsin.

[FR Doc. 2012-8242 Filed 4-5-12; 8:45 am]

BILLING CODE 4910-22-P